DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 25743-25746, dated May 2, 2013) is amended to establish the Office of Safety, Security, and Asset Management, Office of the Chief Operating Officer, Office of the Director, Centers for Disease Control and Prevention.

Section C-B, Organization and Functions, is hereby amended as follows:

Delete in its entirety the titles and functional statements for the Buildings and Facilities Office (CAJC); the Logistics Management Branch (CAJHW), Procurement and Grants Office (CAJH); the Office of Security and Emergency Preparedness (CAJJ); Office of Safety, Health and Environment (CAJP); insert the following:

Office of Safety, Security and Asset Management (CAJS). The Office of Safety, Security and Asset Management (OSSAM) serves as the lead organizational entity for providing a safe, secure, functional, and healthy workplace environment for Centers for Disease Control and Prevention (CDC) staff while ensuring environmental stewardship and appropriate management of agency assets.

Office of the Director (CAJS1). (1) Directs, manages, coordinates and evaluates the programs and activities of OSSAM service offices; (2) develops goals and objectives and provides leadership, policy formulation and guidance in program planning and development; and (3) provides advice and counsel to the CDC Director, the Chief Operating Officer, and other senior Office of the Director (OD) and Centers/Institute/Offices (CIO) officials on all OSSAM programs and activities.

Office of Financial, Administrative, and Information Services (CJAS12). (1) Provides administrative guidance, advice, and support to OSSAM employees; (2) manages OSSAM information technology support, including system development, maintenance, design and implementation; (3) provides direction, strategy, analysis, and operational support in all aspects of OSSAM's human resources operations; (4) develops and implements internal policies and procedures, including developing related communications; (5) serves as the performance ombudsman for OS SAM; (6) provides office space allocation for all OSSAM programs; (7) serves as the point of contact between OSSAM OD and the Office of the Chief Financial Officer; (8) provides funding ceiling information to each OSSAM office; (9) manages all OSSAM salary and budget spending; (10) provides oversight, guidance and approval for the procurement process OS SAM-wide; (11) provides oversight of property accountability, including appointing an OSSAM property accountability officer; (12) provides guidance and oversight related to the records management requirements and process; and (13) establishes and enforces OSSAM-related travel policies.

Office of Operations (CAJS13). (1) Implements, maintains, and updates CDC's Integrated Emergency Management Program, Emergency Response Plans (ERPs) and CDC Continuity Of Operations (COOP) communications vehicles; (2) conducts and evaluates annual tabletop, functional, and full-scale exercises for all CDC facilities with ERPs; (3) recommends future emergency management and emergency response-related programs, policies, and/or procedures; (4) oversees technical programs to ensure a safe, secure and healthy workplace while ensuring all worksite issues are properly addressed and brought to closure; (5) oversees the Quarterly Performance Review process; and (6) provides oversight and guidance to OSSAM liaison officers who support programs as the key contact for matters related to safety, security, facilities, logistics and sustainability.

Public Health and Intelligence Office (CAJS14). (1) Provides leadership and operational and technical support for development and implementation of intelligence activities; (2) analyzes and disseminates intelligence related to public health, medical and scientific intelligence, counterintelligence, insider threat, and global security; (3) researches, compiles, produces, and provides classified and unclassified briefings; (4) performs prepublication review of classified and sensitive information; (5) serves as the CDC liaison with U.S. intelligence community agencies; (6) provides global security oversight in coordination with U.S. government agencies, international organizations, and non-governmental organizations; (7) identifies training needs and recommends specific training objectives to be met and the methods to achieve them (i.e. Security Awareness, Counterintelligence Awareness; Foreign Travel Safety Brief); (8) develops, implements, and presents sound and well-grounded training programs to prepare agency staff members pending deployments or travel abroad; (9) performs security assessments of and technical assistance to agency international facilities; (10) supports agency international operational goals through membership on the Department of State Overseas Security Policy Board; (11) provides oversight of the Defensive Counterintelligence and Insider Threat program; (12) processes non-United States citizen requests for physical or logical access; (13) provides guidance over all security issues related to foreign travel matters; (14) provides policy and implementation guidance on all standards and requirements related to the processing and storing of controlled unclassified information; (15) manages and operates the agency's Sensitive Compartmented Information Facility (SCIF) and its secure communications systems; (16) maintains accreditation of the agency's SCIF; (17) manages and operates collateral-level secure facilities nationally; (18) provides policy and implementation guidance on the standards for using classified document control for CDC; (19) provides policy and implementation guidance on all standards and requirements related to the processing and storing of classified information by the agency; (20) develops and administers a physical protection plan for all national security information and material held or processed by the agency in accordance with established laws, mandates, and government-wide policies; (21) acts as Communications Security Custodian for all classified matters involving the National Security Agency; (22) maintains CDC's emergency destruction plan for classified material and equipment; (23) conducts preliminary investigations of security violations relative to the loss or compromise/suspected compromise of sensitive, classified or crypto-logic materials or devices throughout CDC; (24) ensures proper destruction of classified documents that are no longer required; (25) conducts security inspections and audits of all national security information storage and processing areas; (26) responsible for implementing, maintaining, and updating of CDC Continuity Of Operations (COOP) communications vehicles; and (27) provides deployable unclassified and classified communication platforms to support high-level deploying staff to natural or manmade disaster areas in support of COOP plans.

Quality and Sustainability Office (CAJS15). (1) Provides quality assurance and continuous improvement by establishing a framework for process improvement associated with all OSSAM functions; (2) ensures accountability and environmental stewardship of agency assets in order to protect CDC's ability to carry out its health mission today and in the future; (3) conducts quality improvement audits on all OSSAM program areas of responsibility; (4) assembles technical advisory teams, as needed, to conduct audits/reviews of OSSAM program areas; and (5) provides oversight of CDC's sustainability programs.

Asset Management Services Office (CAJSB). The Asset Management Services Office (AMSO) provides a safe, secure, healthy, and functional workplace environment for CDC staff by ensuring that assets are managed effectively while maintaining efficient operations and logistical support, customer satisfaction, and environmental stewardship.

Office of the Director (CAJSB1). (1) Plans, directs, and coordinates the functions and activities of AMSO; (2) provides management and administrative direction for budget planning and execution, property management, and personnel management within AMSO; (3) provides leadership and strategic support to senior managers in the determination of CDC's long-term facility needs; (4) coordinates the operations of AMSO staff involved in the planning, evaluation, design, construction, and management of facilities and acquisition of property; (5) provides centralized value engineering services, policy development and coordination, and global acquisition planning for AMSO; (6) assists and advises senior CDC officials in the development, coordination, direction, and assessment of facilities and real property activities throughout CDC's facilities and operations, and assures consideration of facilities management implications in program decisions; (7) provides collaboration and centralized consolidation of division reporting requirements and other deliverables to the Department of Health and Human Services (DHHS), the Office of the Chief Financial Officer, and other internal and external entities; (8) oversees functions of the campus portfolio managers who prepare the capital and repair and improvements (R&D, CDC and HHS-level Facility Project Approval Agreements (FPAA), asset business plans, campus master plans, special studies, monitors performance indicators to identify/address portfolio deficiencies, serve on project core teams and administer the National Environmental Policy Act, Historic Preservation, Green Building, International Facilities, Real Property Acquisition, Asset Management Team and Security Liaison Activities.

Leased Property Management Services (CAJSB12). (1) Conducts real estate activities throughout CDC, including the acquisition of leased space, the purchase and disposal of real property for CDC nationwide (with emphasis on current and long-range planning for the utilization of existing and future real property resources); (2) performs space management (assignment and utilization) of all CDC space, both owned and leased, nationwide; (3) provides technical assistance in space planning to meet programmatic needs; (4) executes all easements for owned—in coordination with campus liaison officers—property; (5) administers day-to-day management of leased facilities and ensures contract compliance by lessors; (6) provides technical assistance and prepares contract specifications for all repair and improvement projects in leased space; (7) maintains liaison with the General Services Administration regional offices; (8) performs all functions relating to leasing and/or acquisition of real property under CDC delegation of authority for leasing, including direct lease actions; and (9) coordinates the relocation of CDC personnel within owned and leased space.

Engineering, Maintenance, and Operations Services Office (CAJSBB). The Engineering, Maintenance, and Operations Services Office (EMOSO) manages facilities engineering, engineering controls, security systems engineering, fire alarm and life safety, and monitors, operates, and maintains owned buildings, central utility plants, systems, equipment, and perform systems/building commissioning. Specifically, EMOSO: (1) Operates, maintains, repairs, and modifies CDC's Atlanta-area office buildings, laboratories, and plant facilities and other designated CDC facilities throughout the United States (U.S.) and other geographic areas, and conducts a maintenance and repair program for CDC's program support equipment; (2) develops services for new, improved, and modified equipment to meet program needs; (3) provides technical assistance, reviews maintenance and operation programs, and recommends appropriate action for all Atlanta area facilities and other designated CDC facilities throughout the U.S. and other geographic areas; (4) provides recommendations, priorities, and services for new, improved, or modified equipment to meet program needs; (5) provides maintenance and operation of the central energy plant including structures, utilities production and distribution systems, and equipment; (6) conducts a program of custodial services, waste disposal, incinerations, disposal of biological waste, and other building services at all CDC Atlanta area facilities and other designated CDC facilities throughout the U.S. and other geographic areas; (7) provides landscape development, repair, and maintenance at all Atlanta area facilities and other designated CDC facilities throughout the U.S. and other geographic areas; (8) provides hauling and moving services for CDC in the Atlanta area; (9) provides an Integrated Pest Management Program to control insect and rodents for CDC in Atlanta area facilities; (10) develops required contractual services and provides supervision for work performed in these areas; (11) establishes and maintains a computerized system for maintenance services, for stocking and ordering supplies, and replacement parts; (12) provides for pick-up and delivery of supplies and replacement parts to work sites; (13) maintains adequate stock levels of supplies and replacement parts; (14) prepares design and contract specifications, and coordinates completion of contract maintenance projects; (15) manages CDC's Energy Conservation Program for all CDC facilities; (16) reviews all construction documents for energy conservation goals and compliance with applicable CDC construction standards; (17) participates on all core teams and value engineering teams; (18) provides maintenance and inspection for fire extinguishers and fire sprinkler systems; (19) provides services for the procurement of natural gas; (20) develops and maintains a standard equipment list for all CDC facilities; (21) assists the other AMSO offices with facility-related issues, as needed; (22) provides building coordinators to interface with program personnel to keep the building and equipment functioning; and (23) coordinates the commissioning of new buildings, structures, systems and components, as necessary.

Projects and Construction Management Services Office (CAJSBC). The Projects and Construction Management Services Office (PCMSO) manages capital improvement projects, repair and improvement projects, and construction services. Specifically, PCMSO: (1) Provides professional architectural/engineering capabilities, and technical and administrative project support to CDC and CIOs for renovations and improvements to CDC-owned facilities and construction of new facilities; (2) develops project management requirements (including determination of methods, means of project completion, and selection of resources); (3) provides critical path method scheduling support for all large capital construction projects and all R&I projects; and (4) provides central cost estimating support for all large capital construction projects, all R&I projects, special projects, feasibility studies, as requested, and certain work orders, as requested.

Logistics Management Services Office (CAJSBD). (1) Develops and implements CDC-wide policies, procedures, and criteria necessary to comply with federal and departmental regulations governing inventory management; property administration; property reutilization and disposal including chemical hazardous waste; supply management; and receiving and distribution; (2) determines, recommends, and implements procedural changes needed to maintain effective management of CDC property including but not limited to: inventory control; property records; and property reutilization and disposal; (3) provides audits, training and technical assistance to CDC CIOs on inventory management; property administration; property reutilization and disposal including chemical hazardous waste; supply management; and property receiving; (4) determines the requirement for and serves as the functional proponent for the design, test, and implementation of logistics management systems; (5) represents CDC on inter- and intra-departmental committees relevant to logistical functions; (6) serves as the CDC liaison to HHS and other federal agencies on logistical matters such as inventory management, property administration, property reutilization and disposal including chemical hazardous waste, supply management, and receiving and distribution; (7) functions as the CDC waste and recycling services manager; (8) provides medical maintenance management support for CDC's personal property; (9) provides logistics and movement planning support for CDC CIOs; and (10) establishes branch goals, objectives, priorities, and assures consistency and coordination with overall OSSAM logistical goals and objectives.

Design, Engineering and Management Services Office (CAJSBE). The Design, Engineering and Management Services Office (DEMSO) provides architectural, engineering design, project management services, and interior design services; and manages facility plans, drawings and technical documents and ensures proper configuration control. Specifically, DEMSO: (1) Prepares architectural and engineering designs, and specifications for construction of modifications and renovations to CDC-owned facilities; (2) provides architectural and engineering technical expertise and is the technical authority on new facilities, and modifications and renovations on facility project designs; (3) provides furniture, fixture, and equipment designs, and project management services for all CDC facilities; (4) provides record and guideline document support services to all AMSO offices; and (5) maintains CDC Design Standards and Guidelines for use as basis of design for construction of new facilities, and modifications and renovations in CDC-owned facilities.

Environment, Safety, and Health Compliance Office (CAJSC). The Environment, Safety, and Health Compliance Office (ESHCO) ensures compliance with applicable environment, safety and health regulations, empowers workers, and provides the tools needed for workers to be safe, work in a healthy environment, and ensures environmental stewardship. Specifically, ESHCO: (1) Provides leadership and service for the CDC Health and Safety Program to proactively ensure safe and healthy workplaces at CDC worksites for CDC employees, contractors, and visitors (including deployed personnel), and to protect the environment and communities adjacent to Atlanta area CDC-owned and leased facilities; (2) provides occupational health services to CDC staff through occupational health clinics at Atlanta area and Fort Collins and via contracts at other sites; (3) promotes healthy and safe work practices to prevent injury and illness; (4) provides advice and counsel to senior OD and CIO staff on health, safety, and environment-related matters, and to individuals and organizations nationally and internationally; (5) provides advice, counsel, and direct support services to supervisors and employees on health, safety, and environment-related matters; (6) assures compliance with applicable federal, state, and local health, safety, and environmental (HSE) laws and regulations; (7) provides liaison with both CDC safety officers and staff, and other partners such as DHHS health and safety officials, Occupational Safety and Health Administration, Environmental Protection Agency, Nuclear Regulatory Commission, and other governmental and non-governmental organizations on HSE issues; (8) coproduces the CDC/National Institutes of Health publication, Biosafety in Microbiological and Biomedical Laboratories; (9) serves as a World Health Organization Collaborating Center for Applied Biosafety Programs and Training; (10) serves as a significant resource of subject matter expertise for the national and international community in the field of biosafety; and, (11) works with key partners, such as the World Health Organization, on critical health and safety issues around the globe.

Office of the Director (CAJSC1). (1) Serves as the principal advisor to the Director, OSSAM, with responsibility for the CDC Health and Safety Program; (2) plans, identifies, and requests required resources; directs, manages, and evaluates the operations and programs of ESHCO; (3) assures coordination and cooperation among ESHCO staff; (4) collaborates in the development and review of draft CDC policies to ensure compliance with applicable federal, state, and local HSE laws, regulations, and policies; (5) develops and implements new HSE injury/illness prevention programs indicated by surveys, incident investigations, reports of unsafe/unhealthful working conditions and other means; (6) assures cross-cutting, collaborative team functionality in building and maintaining a successful HSE program; (7) consults with individuals and organizations nationally and internationally on issues such as laboratory safety, biosafety, occupational health issues in the biomedical laboratory and animal care setting, and deployment health and safety; (8) maintains oversight and support for the CDC HSE committees in operational components with representation, attendance, interaction and collaboration, and collaboration with non-Atlanta health and safety officers and staff; and (9) provides an annual report on the CDC HSE and other reports required or requested by CDC management officials, HHS, and regulatory agencies.

WorkLife Wellness Office (CAJSD). The WorkLife Wellness Office (W2O) provides an environment that promotes a culture that improves the health and resilience of workers by integrating effective policies, programs, and processes accessible to all staff to sustain and improve performance, increase readiness, and support healthy choices and behaviors. Specifically, W2O: (1) Provides a core set of services and resources related to resilience and readiness including preventive screenings, wellness-enhancing activities, health education, counseling and follow-up care/referrals; (2) engages in holistic organizational wellness efforts such as benchmarking best practices, implementing or maintaining proper policy, systems, linkages, physical environment, social environment, and external partners/coalitions outreach; (3) oversees the lifestyle fitness centers; (4) directs the employee assistance program; and (5) manages the vending/cafeteria services.

Security Services Office (CAJSE). The Security Services Office (SSO) serves as the lead organizational entity for providing the overall framework, direction, coordination, implementation, oversight and accountability for CDC's infrastructure protection, and personnel security program. SSO serves as the primary liaison for homeland security activities; provides a secure work environment for CDC/ATSDR personnel, visitors and contractors; and plans and implements the agency's crisis management activities which ensure a continued public health response to the nation.

Office of the Director (CAJSE1). (1) Directs, manages, coordinates and evaluates the programs and activities of the SSO; (2) develops goals and objectives and provides leadership, policy formulation and guidance in program planning and development; (3) prepares, reviews, and coordinates budgetary, informational, and programmatic documents; (4) provides oversight and comprehensive security services to CDC's Strategic National Stockpile program; and (5) serves as a liaison to local, state, and federal law enforcement entities and security personnel within other HHS Operating Divisions.

Physical Security Laboratory and Technical Branch (CAJSEB). (1) Provides coordination, guidance, and security operations to all facilities CDC-wide including all owned and leased sites; (2) provides campus-wide access control for all the Atlanta leased sites; the Chamblee and Lawrenceville campuses; Anchorage, Alaska; and Fort Collins, Colorado; and all other CDC laboratories; (3) provides management and oversight of contract guard force and local police; (4) responsible for physical security during emergency operations; (5) promotes theft prevention, provides training and conducts investigations; (6) conducts site surveys to assess all physical security activities and correct deficiencies and implement improvement as necessary; (7) provides leadership and coordination in planning and implementation for internal emergency; (8) manages and maintains the emergency alert system; (9) maintains 24-hour emergency notification procedures for Fort Collins, Colorado; San Juan, Puerto Rico; and Anchorage, Alaska; and (10) manages and operates CDC's Security Operations Centers (SOC) 24 hours a day, seven days a week at the Roybal campus, Fort Collins, and other sites as constructed; (11) manages the Locksmith Office; (12) maintains inventory controls and measures and implements, installs, repairs, and re-keys all locks with emphasis on the overall physical security of CDC and its owned and leased facilities; (13) provides security recommendations to CDC programs regarding capabilities and limitations of locking devices; (14) provides combination change services to organizations equipped with cipher locking devices; (15) coordinates with engineers and architects on CDC lock and keying requirements for new construction (16) improves and expands video monitoring to ensure the security of all employees, visitors, contractors and the general public while at the CDC; (17) manages and coordinates Select Agent security and the CDC Safety and Security Plan; (18) manages and maintains the Intrusion Detection Automated system, including P2000, and; (19) provides coordination, guidance, and security operations for all CDC laboratories nationwide.

Physical Security Operations Branch (CAJSEC). The Physical Security Operations Branch (PSOB) coordinates and implements security operations, including access control and crisis management, for the CDC Headquarters campus and directs and oversees the security guard contract for Atlanta facilities. Specifically, PSOB: (1) Provides coordination, guidance, and security operations; (2) provides campus-wide access control; (3) provides management and oversight of contract guard force and local police; (4) conducts physical security during emergency operations; (5) promotes theft prevention, provides training and conducts investigations; (6) conducts site surveys to assess all physical security activities and correct deficiencies and implement improvement as necessary; (7) manages and operates CDC's Security Operations Centers (SOC) 24 hours a day, seven days a week at the Roybal campus, and other sites as constructed; (8) coordinates nationwide security operations through the Roybal campus SOC (9) maintains 24-hour emergency notification procedures; (10) manages and maintains the emergency alert system; (11) provides leadership and coordination in planning and implementation for internal emergency incidents affecting the Roybal campus, including incident response and incident support; (12) improves and expands video monitoring to ensure the security of all employees, visitors, contractors and the general public while at the CDC; (13) provides coordination, guidance, and security operations for all Global Communication Center events and visits; (14) manages and coordinates the security of all visitors and guests to all Atlanta-area CDC campuses.

Personnel Security Branch (CAJSED). (1) Conducts background investigations and personnel suitability adjudications for employment with CDC in accordance with 5 CFR part 731, Executive Order 12968 and Executive Order 10450; (2) submits documentation for security clearances, and maintains an access roster in a security clearance database; (3) implements high risk investigations such as Public Trust Investigations for employees GS-13s and above who meet Department of Health and Human Services criteria standards for employees working in Public Trust positions; (4) conducts adjudications for National Agency Check with Inquiries (NACI) cases and assists DHHS in adjudicating security clearance cases; (5) provides personnel security services for full time employees, guest researchers, visiting scientists, students, contract employees, fellows, and the commissioned corps; (6) conducts initial “Security Education Briefing” and annual Operational Security Training; (7) coordinates employee drug testing; (8) provides identification badges and cardkey access for personnel within all CDC metro Atlanta area facilities as well as some out-of-state CDC campuses; (9) enrolls individuals with a security clearance or approval in the biometric encoding system; (10) maintains hard copy records of all individuals' requests and authorizations for access control readers; and (11) manages and operates cardkey systems.

Transportation Services Office (CAJSG). The Transportation Services Office (TSO) develops and provides CDC-wide transportation policies, procedures and services ensuring a safe, secure and healthy workplace is established and maintained in accordance with federal and departmental regulations. Specifically, TSO: (1) Provides oversight, expertise, guidance, and program support for transportation related activities; (2) provides subject matter expertise on transit initiatives, facility master planning, and liaise with the community regarding transportation planning; (3) provides fleet management and shipping operations; (4) performs parking administration, commuter assistance, manages the Transportation Choices Program, employee housing and relocation services, and coordinates transportation services; (5) develops and implements CDC-wide policies, procedures, and criteria necessary to comply with federal and departmental regulations governing transportation and fleet management; (6) determines, recommends, and implements procedural changes needed to maintain effective management of CDC transportation services including but not limited to: shipping and return of CDC materiel; transportation of freight; and CDC's vehicle fleet; (7) represents CDC on inter- and intra-departmental committees relevant to transportation and traffic management; and (8) establishes branch goals, objectives, and priorities, and assures consistency and coordination with overall OS SAM goals and objectives.

Dated: April 26, 2013.
Sherri A. Berger,
Chief Operating Officer, Centers for Disease Control and Prevention.

[FR Doc. 2013-11142 Filed 5-9-13; 8:45 am]

BILLING CODE 4160-18-M